DEPARTMENT OF HEALTH AND HUMAN SERVICES

Centers for Medicare & Medicaid Services

[CMS-8050-N]

Medicare Program; Meeting of the Medicare Economic Index Technical Advisory Panel—May 21, 2012

Correction

In notice document 2012-10702 appearing on pages 26553-26554 in the issue of Friday, May 4, 2012 make the following corrections:

1. On page 26553, in the third column, in the last paragraph on the page “III. Registration Instructions”, the third sentence should appear as set forth below:

“You may register online at http://www.hcdi.com/mei/ or by phone by contacting Toya Via, HCD International, at (301) 552-8803, by 5:00 p.m. EDT, Monday, May 14, 2012.”

[FR Doc. C1-2012-10702 Filed 5-10-12; 8:45 am]

BILLING CODE 1501-01-D